DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on August 14-15, 2006 in room 230, Department of Veterans Affairs, 810 Vermont Avenue, NW., Washington, DC. The sessions will convene at 8 a.m. each day and adjourn at 5:30 p.m. on August 14, and at 3:30 p.m. on August 15. Sessions will be open to the public.

The purpose of the Committee is to provide advice and make recommendations to the Secretary of Veterans Affairs on research plans and research strategies relating to the health consequences of military service in the Southwest Asia theater of operations during the Gulf War.

The Committee will review VA program activities related to Gulf War veterans' illnesses and updates on scientific research on Gulf War illnesses published since the last committee meeting. Additionally, there will be presentations and discussion of changes in immune function and inflammation and immune responses in the central nervous system associated with chronic multisymptom illnesses and/or chemical exposures.

Members of the public may provide up to 5 minute statements during the period reserved for public comments. They may also submit, at the time of the meeting, a 1-2 page summary of their comments for inclusion in the official meeting record. Any member of the public seeking additional information should contact Dr. William Goldberg, Designated Federal Officer, at (202) 254-0294.

Dated: July 17, 2006.
By direction of the Secretary.
E. Philip Riggin,
Committee Management Officer.

[FR Doc. 06-6465 Filed 7-24-06; 8:45 am]

BILLING CODE 8320-01-M